DEPARTMENT OF THE INTERIOR

National Park Service

36 CFR Part 7

RIN 1024-AD06

Special Regulations; Areas of the National Park System

AGENCY: National Park Service, Interior.

ACTION: Final rule.

SUMMARY: The National Park Service (NPS) is postponing the implementation of some existing snowmobile regulations in Yellowstone National Park, the John D. Rockefeller, Jr., Memorial Parkway, and Grand Teton National Park for one year. This additional time is needed because the NPS has not had sufficient time to plan for and implement the NPS-managed, mass-transit, snowcoach-only system outlined in the existing Winter Use Plan and Record of Decision and to complete the Supplemental Environmental Impact Statement (SEIS).

DATES: This rule becomes effective December 18, 2002.

FOR FURTHER INFORMATION CONTACT: Kym Hall, Regulations Program Manager, National Park Service, 1849 C Street, NW., Room 7248, Washington, DC 20240. Phone: (202) 208-4206. Email: Kym_Hall@nps.gov.

SUPPLEMENTARY INFORMATION: The NPS published the proposed rule on March 29, 2002 (67 FR 15145). Background information on this rulemaking is in the proposed rule.

Analysis of Public Comments

We provided 60 days for public comment on our proposal, through May 28, 2002. By midnight of that day, we had received 7,709 comments in the form of individual letters, form letters, petitions and e-mails. Of the comments, 3,693 supported postponing the implementation of existing snowmobile regulations (the proposed rule) and 4,016 opposed the proposed rule. We received 403 comments from Gateway communities (Gardner and West Yellowstone, Montana, and Jackson and Cody, Wyoming), 1,195 from the surrounding states of Idaho, Montana and Wyoming (outside the Gateway communities) and 6,111 comments from the remainder of the United States.

The comment period for this rule ran concurrently with the comment period for the Draft SEIS. It is likely that many of the comments received during the rulemaking comment period were more likely intended to apply to the SEIS. Many of the comments went beyond the narrow focus of the proposed rule and opined on whether the NPS should alter its decision from November, 2000, to allow continued recreational snowmobile use in the three park units. The pending SEIS process will result in a determination of whether such use will occur. At this time the NPS believes it can accommodate some level of recreational use in the three park units.

The following is a summary of all substantive comments we received on the proposed rule and our responses to them.

Issue—Over 2,400 comments specifically supported the continued use of snowmobiles, objecting to any prohibitions, and encouraging proper management and use of new technology to solve snowmobile related problems.

NPS Response—These comments go beyond the narrow scope of the proposed rule and address issues under consideration in the SEIS process. In that process, NPS is considering alternatives that would allow some level of snowmobile use and include several elements of snowmobile management that will help to mitigate or resolve existing concerns related to snowmobile use. During the winter use season 2002-2003, NPS is implementing management measures to mitigate the effects of continued snowmobile use in the parks.

Issue 2—Several comments supported alternative 2 developed by the cooperating agencies.

NPS Response—These comments also go beyond the scope of the proposed rule. The NPS continues to evaluate the substance of alternative 2 in the SEIS process.

Issue 3—A few commentors said that they believe snowmobiles do not harm wildlife or the environment.

NPS Response—Studies cited in the FEIS document disturbance to wildlife and the potential harm to the environment from inadequately managed snowmobile use. The pilot program in Yellowstone National Park during the winter of 2001-2002 lessened these impacts to some extent. If the winter use plan for the three parks includes continued recreational use of snowmobiles, the plan will include features to further reduce and monitor these impacts.

Issue 4—Some commentors said that the ban on snowmobiles would be too devastating on the economy of local communities.

NPS Response—Again, these comments go beyond the scope of the proposed rule. The FEIS and draft SEIS disclosed potential adverse economic consequences from a ban of recreational snowmobile use. The NPS chose to phase out such use, rather than implement an immediate ban, in part based on those adverse impacts. Consequently, we are striving to develop a winter use management plan that continues to provide winter access to a variety of visitors while still protecting the parks as required by applicable law.

Issue 5—A few commentors said they wanted to continue to have the ability to access the park on their own snowmobile at their own pace and that this is the best way to experience the park.

NPS Response—This is beyond the scope of the proposed rule, but the issue is being considered as part of the SEIS process. The proposed rule allows personally owned snowmobiles to be used during the winter of 2002-2003.

Issue 6—Several commentors supported the idea of adaptive management so the parks could be responsive to new technology with regards to snowmobile management.

NPS Response—These comments are beyond the scope of the proposed rule. The draft SEIS, however, considered two alternatives that featured adaptive management strategies.

Issue 7—Nearly 900 commentors said they do not support any proposal for snowmobile access only with a guide.

NPS Response—Again, these comments are beyond the scope of the proposed rule. This issue will be addressed in the SEIS process. Current regulations do not require the use of snowmobile guides during the winter use season 2002-2003.

Issue 8—Several commentors expressed support for a 35 mph speed limit between West Yellowstone and Old Faithful.

NPS Response—The speed limit reduction (from 45 to 35 mph) between West Yellowstone and Old Faithful during last winter's pilot program administratively addressed winter issues in this corridor and is being evaluated. It is likely that a similar speed limit reduction will be utilized during this coming winter.

Issue 9—Several commentors supported the idea of partnerships between the NPS and private sector to expand winter use education with an emphasis on ethics, rules, safety and park appreciation.

NPS Response—The NPS will consider these ideas when implementing a final winter use decision.

Issue 10—Some commentors said that 4-stroke technology would sufficiently curb perceived environmental concerns.

NPS Response—These comments are beyond the scope of the proposed rule but this issue will be addressed in the SEIS process.

Issue 11—Over 900 commentors believe that snowmobiles and snowcoaches can coexist and that one should not be banned in favor of the other.

NPS Response—These comments were beyond the scope of the proposed rule. The NPS is using the SEIS process to consider whether to allow both kinds of snowmachine use on park routes.

Issue 12—Nearly 900 commentors supported interim daily entry limits based on historic daily averages. Others believe historic annual use levels should be maintained.

NPS Response—These comments are beyond the scope of the proposed rule but this issue will be addressed in the SEIS process. One of the goals of the NPS is to maintain historic levels of visitation. The SEIS process will result in a decision on how to accomplish that goal.

Issue 13—Several commentors supported the advance sale of park permits off-site.

NPS Response—This implementation feature is beyond the scope of the proposed rule. However, based on the results of the pilot program instituted during the 2001-2002 winter use season, it is planned that advance sale of park permits off-site will continue to occur throughout West Yellowstone this coming winter in order to reduce congestion at the entrances and to reduce NPS employee exposure to exhaust emissions.

Issue 14—Some commentors supported reasonable restrictions on snowmobiles rather than an outright ban.

NPS Response—Again, these comments are beyond the narrow scope of the proposed rule and address the decision NPS will make at the conclusion of the SEIS process. Different alternatives in the final SEIS will consider such restrictions (hours of operation, limited numbers of entries, speed limits, guided tours or specialized training, etc.) in order to mitigate impacts to resources and reduce conflicts between user groups. During winter use season 2002-2003, snowmobile use in Yellowstone and Grand Teton National Parks will continue at its current level.

Issue 15—Nearly 900 commentors said that travel by snowmobile should be discouraged between the hours of 9 pm and 8 am.

NPS Response—Current snowmobile regulations prohibit operations of snowmobiles between the hours of 9 pm and 8 am. For the winter use season 2002-2003, the park will be amending the hours of operation to prohibit use between the hours of 9 pm and 7 am. This additional hour of use in the morning should help alleviate congestion at the West Yellowstone entrance. Adjustments in the times of operation for snowmobiles and/or snowcoaches may be addressed in the final SEIS.

Issue 16—Over 1,300 commentors supported the delay of the implementation of the existing regulations until the SEIS is complete.

NPS Response—We agree and expect to have the SEIS complete by spring 2003. This delay will enable us to complete the process without implementing the 50% reduction that is due to go into effect during the winter use season 2002-2003 under the current regulations.

Issue 17—Nearly 4,000 commentors supported the existing regulations and/or a complete prohibition of snowmobiles in the three parks.

NPS Response—The NPS believes that implementing the 50% reduction in the winter of 2002-2003, as originally scheduled, is undesirable. One purpose of the staged phase-out of snowmobile use was to allow NPS, and local communities, sufficient time to convert to a mass-transit system within the park units. Both entities need additional time to accomplish this conversion. Additionally, under the ongoing SEIS process, the NPS is considering whether new snowmobile technology and some travel restrictions (such as guided trips and operator training) would allow recreational snowmobile use to continue in the park units.

Issue 18—Some commentors supported the use of mass-transit snowcoaches.

NPS Response—We agree that the use of mass-transit snowcoaches may be an effective way to allow the maximum amount of visitors with less impact to park resources. Snowcoach use is unaffected by this regulation and will continue under the existing regulations.

Issue 19—A few commentors said that further public comment was not warranted and that the original decision/rulemaking process was sound.

NPS Response—On June 29, 2001, the NPS entered into a settlement agreement with the International Snowmobile Manufacturers Association, State of Wyoming, and others to complete a Supplemental Environmental Impact Statement to the original EIS completed in October 2000. The SEIS was to incorporate “any significant new or additional information or data submitted with respect to a winter use plan.” Additionally, the NPS was to consider new information and data submitted regarding new snowmobile technologies. Because of the terms of the settlement agreement, and because the SEIS must follow the process established by the National Environmental Policy Act, soliciting additional public comment was legally required. Most importantly, the Secretary of the Interior and the Director of the NPS both agree that consultation with affected parties is the most productive way to facilitate the decision making process.

Issue 20—A few commentors said the NPS should not be pressured by the snowmobile industry or business concerns.

NPS Response—We believe that it is in the public interest for the NPS to understand and communicate with all affected stakeholders, including the tourism businesses. However, our ability to balance the needs of all stakeholders is constrained by the following considerations: (1) Resource protection is the highest priority of any park; (2) the mandate of preserving park resources unimpaired for future generations may limit our ability to meet the desires of the commercial tourism industry; (3) the Service must consider the negative as well as the positive impacts that tourism may have on park neighbors. Additionally, the Service strives to understand the goals, capabilities, and limitations of the tourism industry and recognize that tourism businesses have financial obligations to meet and investments to protect.

Finally, the Regulatory Flexibility Act requires us to consider the economic impact to businesses from our rulemaking decisions. These businesses could be anything from snowmobile manufacturers to the hotel that provides a room for an out-of-town visitor coming to ride a snowmobile.

Issue 21—A few commentors believe that snowmobiles destroy the solitude of the winter experience.

NPS Response—Within the Final SEIS, we will consider whether and how to provide separate areas of use, or vary the use times, for different types of winter activities such as snowmobiling, snowcoach touring and cross-country skiing. This would allow each user group to enjoy the particular kind of experience for which they come to the park units.

Issue 22—Some commentors said that snowmobiles harm wildlife and wildlife habitat, threaten human health and safety, and pollute the air, ground and water with emissions.

NPS Response—During the winter use season 2002-2003, we will institute management measures that will help address some of these concerns. In the SEIS process, we are considering, among other options, management strategies to mitigate these impacts through guided tours and training to reduce conflicts with wildlife, provide off-site sales of passes to alleviate inhalation of emissions by NPS employees at the entrance gates, and use of new snowmobile technology to reduce emissions into the air, ground and water. Those strategies likely will include a monitoring program to evaluate these impacts and ensure that such visitor use does not cause unacceptable impacts.

Issue 23—Some commentors said that snowmobiles destroy natural peace and quiet and that they are concerned about the noise.

NPS Response—Although beyond the scope of this rulemaking the final SEIS is considering whether we can lessen the noise impacts from snowmobiles and snowcoaches to a point where such use in parks is appropriate. Additionally, the monitoring program we anticipated developing for the final SEIS will help determine the appropriate long-term use level to protect the visitor experience in the park units. The NPS is not making any changes to snowmobile use requirements as a method of reducing noise impacts during the winter use season 2002-2003. However, the increase in cleaner and quieter technology snowmobile engines within rental and administrative fleets may have beneficial affects on noise impacts in the park units.

Issue 24—A few commentors said that snowmobiles ruin the park experience for other visitors.

NPS Response—As previously indicated in this rulemaking, under the SEIS process the NPS is considering how to provide a variety of uses to allow different user groups each a chance for a unique experience. The objective in the SEIS is, in part, to reduce conflicts between user groups and allow for more enjoyable experiences regardless of the recreational activity. The NPS will continue to implement portions of the pilot program started in 2001 including such measures as increased grooming of roads, increased presence of NPS staff, and off-site sales of entrance passes in order to make the park experience more enjoyable for everyone.

Issue 25—A few commentors believe the NPS is in violation of laws and/or the Executive Orders pertaining to park management and off-road vehicle use.

NPS Response—We are cognizant of the legal and policy parameters guiding the management of visitor use in the park units. These requirements guide this decision as well as the development of any future plan for recreational snowmobile use in the parks.

The one year extension of the phase-out of certain provisions of the existing regulation is justified on the same basis as that stated with the publication of that regulation in January 2001:

Under our Management Policies 2000, if there is an impairment of park resources and values from ongoing activities, as here, we must eliminate it as soon as reasonably possible. If the impairment is not from permanent impacts, as here, in determining how soon that is, we may make due allowance for avoiding unacceptable social, economic, or environmental effects of the action eliminating the impairment. (66 FR 7259, January 22, 2001)

As stated previously, NPS has not had sufficient time to implement the NPS-managed, mass-transit, snowcoach-only decision under the existing regulation and Record of Decision, and additional time is still needed to complete the SEIS. The impacts during the winter of 2002-03 are, in any event, anticipated to be less than those identified in the previous planning effort as a result of the various regulatory changes that will go into effect this winter, and the planned enhanced pilot project developed on the basis of our experience the past winter.

Issue 26—Some commentors said that snowmobiles belong on other lands (such as National Forests) and that there are plenty of other places for them to operate rather than in national parks.

NPS Response—We agree that there are a number of areas where snowmobiles can operate on other lands outside the national parks. We also know that visitors to the West Yellowstone area already spend the majority of their snowmobile visits utilizing lands outside the park units. NPS policy commits us to provide appropriate, high quality opportunities for visitors to enjoy parks. We also strive to maintain within parks an open, inviting atmosphere accessible to every segment of American society.

Issue 27—More than 1,700 commentors said that the NPS should listen to the EPA who said alternative 1a is the best alternative for the parks.

NPS Response—The NPS acknowledges that the presence of snowmobiles in these parks, whether operated by the public or the Park Service for administrative purposes, will have some level of negative impacts on park resources, just as the presence of any motorized vehicle, including snowcoaches, will also have negative impacts. We may allow such visitor uses so long as we manage them to minimize the impacts and ensure the impacts do not impair park resources and values.

Issue 28—Nearly 2,200 commentors said that they had concern for the protection of the park values and that the NPS should be providing a refuge away from machines and the other issues of city life.

NPS Response—NPS can and does allow a variety of recreational uses so long as those uses do not cause unacceptable impacts to park resources and values. Within the final SEIS, the NPS is considering how to provide various use areas throughout the parks in order to allow for motorized and non-motorized activities. Each person characterizes his or her “refuge” and expectations of the ideal park visit in a different way. What one person values in the park experience may be contrary to another's. The NPS hopes to provide a wide spectrum of experiences to visitors from around the country and around the world.

Issue 29—One commentor said they thought the NPS was pre-decisional in proposing to implement alternative 1b from the draft SEIS and that public comments would not properly be considered within that process.

NPS Response—The basis for our determination to continue the phase-out of recreational snowmobile use in the parks is explained in our responses to issues 4, 17, and 25. This decision is supported by the environmental analysis conducted in the FEIS and explained in the Record of Decision. As indicated within this final rule, all public comments were read and considered.

Snowplanes

Over 1,200 other letters were received supporting on the continued use of snowplanes on Jackson Lake. The NPS specifically indicated in the proposed rule that snowplane use would not be reconsidered since it was not an element of the SEIS. The use of snowplanes on Jackson Lake continues to be prohibited.

Compliance With Other Laws

Regulatory Planning and Review (Executive Order 12866)

This document is a significant rule and has been reviewed by the Office of Management and Budget under Executive Order 12866.

(1) This rule will not have an effect of $100 million or more on the economy. It will not adversely affect in a material way the economy, productivity, competition, jobs, the environment, public health or safety, or State, local, or tribal governments or communities.

This rule would delay most adverse economic impact from the existing rule for potentially two winter seasons, and there may be economic benefits resulting from the proposed extension. In the economic report “Proposed Restrictions on Snowmobile Riding in the Greater Yellowstone Area Under the Delay Rule” (MACTEC Engineering and Consulting of Georgia, Inc., BBL Sciences, and RTI International, November 2002) net economic gains are estimated to be between $3.0 million and $7.3 million. These estimates only include the monetized impacts of this rule, and do not include non-monetized values such as environmental effects. The full economic analysis can be viewed at http://www.nps.gov/yell.

(2) This rule will not create a serious inconsistency or otherwise interfere with an action taken or planned by another agency.

Implementing actions under this rule will not interfere with other agencies or local government plans, policies, or controls. This is an agency specific change.

(3) This rule does not alter the budgetary effects of entitlements, grants, user fees, or loan programs or the rights or obligations of their recipients.

This rule will only postpone the phase out of snowmobiles for one year within specific park units. No grants or other forms of monetary supplements are involved.

(4) This rule may raise novel legal or policy issues.

The issue of prohibiting snowmobiles or allowing their continued use has generated local as well as national interest on the subject in the greater Yellowstone area. Previously, tens of thousands of public comments were received and analyzed in the development of the FEIS, Winter Use Management Plan, and existing regulations.

Regulatory Flexibility Act

The Department of the Interior certifies that this document will not have a significant economic effect on a substantial number of small entities under the Regulatory Flexibility Act (5 U.S.C. 601 et seq.).

After considering the economic impacts of the delay rule on small entities, NPS concludes the delay rule will mitigate the impacts on small businesses during the winters of 2002-2003 and 2003-2004 relative to the impacts under the January 2001 rule. The NPS projects higher total levels of revenue for firms providing unguided and guided snowmobile rentals and snowcoach tours in those winters.

Small Business Regulatory Enforcement Fairness Act (SBREFA)

This rule is not a major rule under 5 U.S.C. 804(2), the Small Business Regulatory Enforcement Fairness Act. This rule:

a. Does not have an annual effect on the economy of $100 million or more.

This rule would delay most adverse economic impact from the existing rule for one year, there may be economic benefits resulting from the proposed extension.

b. Will not cause a major increase in costs or prices for consumers, individual industries, Federal, State, or local government agencies, or geographic regions.

Delaying the implementation of current snowmobile regulations for one year will have little effect on costs or prices for consumers, individual industries or any government agency.

c. Does not have significant adverse effects on competition, employment, investment, productivity, innovation, or the ability of U.S.-based enterprises to compete with foreign-based enterprises.

This rulemaking has no effect on methods of manufacturing or production and specifically influences only the Greater Yellowstone region of Wyoming, Montana and Idaho, not national or U.S. based enterprises.

Unfunded Mandates Reform Act

This rule does not impose an unfunded mandate on State, local, or tribal governments or the private sector of more than $100 million per year. The rule does not have a significant or unique effect on State, local or tribal governments or the private sector.

This rule postpones the implementation of existing snowmobile regulations for one year. It imposes no other requirements on other agencies, governments, or the private sector.

Takings (Executive Order 12630)

In accordance with Executive Order 12630, the rule does not have significant takings implications.

This rule proposes to delay the implementation of certain existing snowmobile regulation for one year. Owners of private property within the boundaries of Grand Teton National Park will still be afforded access to their private property during the winter use season. No other property is affected.

Federalism (Executive Order 13132)

In accordance with Executive Order 13132, the rule does not have sufficient federalism implications to warrant the preparation of a Federalism Assessment.

This proposed rule effects use by the public of NPS administered lands. It has no outside effects on other areas and only addresses a portion of the use within parks.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required.

National Environmental Policy Act

In 2000, NPS completed a Final Environmental Impact Statement and issued a Record of Decision. That Record of Decision was the basis for the existing rule, and the rationale in that document supports the decision set forth in this rule. A Draft Supplemental Environmental Impact Statement (DSEIS) has been prepared to reconsider the Record of Decision.

Government-to-Government Relationship With Tribes

In accordance with the President's memorandum of April 29, 1994, “Government to Government Relations with Native American Tribal Governments” (59 FR 22951) and 512 DM 2:

We have evaluated potential effects on federally recognized Indian tribes and have determined that there are no potential effects.

Numerous tribes surrounding the greater Yellowstone area were consulted in the development of the Winter Use Plan and FEIS. The main concerns expressed by the tribes were the effects on wildlife by snowmobiles while operating inside the park units. The National Park Service is currently studying how to minimize adverse snowmobile-wildlife interactions in the SEIS. During the winter use season 2002-2003, the NPS will again provide additional staff presence to enforce existing regulations and educate visitors about proper snowmobile use in order to reduce conflicts between snowmobiles and wildlife. This rule has no effect on tribal lands or trusts.

Drafting Information: The principal contributors to this final rule are Robert J. Maguire, North District Ranger, Grand Teton National Park; Kym A. Hall, NPS Regulations Program Manager; and Barry Roth and Debra Hecox, Attorney-Advisors, Solicitor's Office.

List of Subjects in 36 CFR Part 7

District of Columbia, National Parks, Reporting and recordkeeping requirements.

PART 7—SPECIAL REGULATIONS, AREAS OF THE NATIONAL PARK SYSTEM

1. The authority for part 7 continues to read as follows:

Authority: 16 U.S.C. 1, 3, 9a, 460(q), 462(k); Sec. 7.96 also issued under D.C. Code 8-137(1981) and D.C. Code 40-721 (1981).

2. In § 7.13, remove and reserve paragraph (l)(2), revise the introductory text of paragraph (l)(5), revise the introductory text of paragraph (l)(7), revise paragraph (l)(11)(i) , and revise the dates in the first sentence of (l)(11)(viii) to read as follows:

§ 7.13 Yellowstone National Park.

* * * * *

(l)(5) What routes are designated for snowmobile use in the park during the winter seasons of 2002-2003 and 2003-2004? During the winter use seasons of 2002-2003 and 2003-2004, the following routes are designated for snowmobile use:

* * * * *

(l)(7) What limits are established for the number of snowmobiles permitted to use the park each day? For the winter use season 2003-2004, the numbers of snowmobiles allowed to use the park each day are listed in the following table:

* * * * *

(l)(11)(i) Snowcoaches , and during the winter use seasons of 2002-2003 and 2003-2004 snowmobiles, may not be operated in the park between the hours of 9 p.m. and 7 a.m. except by authorization.

* * * * *

(l)(11)(viii) During the winter season of 2003-2004, snowmobiles must be accompanied by an NPS permitted guide and may not travel in groups of more than 11 snowmobiles.

* * * * *

3. In § 7.21, revise paragraph (a)(1), remove and reserve paragraph (a)(2), revise paragraph (a)(4) introductory text, revise paragraph (a)(5) introductory text, and revise paragraph (a)(9)(vi) to read as follows:

§ 7.21 John D. Rockefeller, Jr., Memorial Parkway.

* * * * *

(a)(1) May I operate a snowmobile in the Parkway? You may operate a snowmobile in the Parkway in compliance within the public use limits and operating conditions established in this section until the end of the winter use season of 2003-2004 at which time snowmobile use in the Parkway is prohibited except for essential administrative use and in emergency situations as determined by the Superintendent.

* * * * *

(a)(4) What routes are designated for snowmobile use in the Parkway in the winter use seasons of 2002-2003 and 2003-2004? During the winter use seasons of 2002-2003 and 2003-2004, the following routes are designated for snowmobile use:

* * * * *

(a)(5) What limits are established for the number of snowmobiles permitted to use the Parkway each day? For the winter use season 2003-2004, the numbers of snowmobiles allowed to use the Parkway each day are listed in the following table:

* * * * *

(a)(9)(vi) Snowcoaches, and during the winter use seasons of 2002-2003 and 2003-2004 snowmobiles, may not be operated in the park between the hours of 9 p.m. and 7 a.m. except by authorization.

* * * * *

4. In § 7.22, revise paragraph (g)(1), remove and reserve paragraphs (g)(2) and (g)(3), revise paragraph (g)(4), revise paragraph (g)(6), and revise paragraph (g)(7)(vi) to read as follows:

§ 7.22 Grand Teton National Park.

* * * * *

(g)(1) May I operate a snowmobile in Grand Teton National Park? During the winter use seasons of 2002-2003 and 2003-2004, you may operate a snowmobile on the routes and areas designated in paragraphs (g)(4) and (g)(6) of this section in compliance with public use limits and operating standards established by the Superintendent. Effective the winter use season of 2004-2005, snowmobile use will be restricted to the routes and purposes in paragraphs (g)(10), (11), (12), and (13) of this section. All other snowmobile use is prohibited, except for essential administrative use and in emergency situations as determined by the Superintendent.

* * * * *

(g)(4) Effective until the end of the winter use season 2002-2003, the following water surface is designated for snowmobile use: The frozen surface of Jackson Lake.

* * * * *

(g)(6) What routes and limits are designated for snowmobile use in the park during the winter use seasons of 2002-2003 and 2003-2004? For the winter use seasons of 2002-2003 and 2003-2004, the Continental Divide Snowmobile Trail along U.S. 26/287 from Moran to the eastern park boundary and along U.S. 89/287 from Moran to the north park boundary is designated for snowmobile use. The Superintendent may open or close this route after taking into consideration the location of wintering wildlife, appropriate snow cover, and other factors that may relate to public safety. During the winter use season of 2003-2004 a maximum of 25 snowmobiles are allowed to use this route each day.

* * * * *

(g)(7)(vi) Snowcoaches, and during the winter use seasons of 2002-2003 and 2003-2004 snowmobiles, may not be operated in the park between the hours of 9 p.m. and 7 a.m.

* * * * *

Dated: November 8, 2002.
J. Steven Griles,
Deputy Secretary of the Interior.

[FR Doc. 02-29028 Filed 11-15-02; 8:45 am]

BILLING CODE 4310-70-P